DEPARTMENT OF AGRICULTURE

Animal and Plant Health Inspection Service

9 CFR Part 130

[Docket No. APHIS-2006-0144]

RIN 0579-AC59

Import/Export User Fees; Correction

AGENCY: Animal and Plant Health Inspection Service, USDA.

ACTION: Final rule; correction.

SUMMARY: We are correcting an error in the rule portion of a final rule that amended the regulations concerning user fees for import- and export-related services that we provide for animals, animal products, birds, germ plasm, organisms, and vectors. The final rule was published in the Federal Register on March 30, 2009, and is effective on April 29, 2009.

DATES: Effective Date: April 29, 2009.

FOR FURTHER INFORMATION CONTACT: For information concerning program operations, contact Ms. Inez Hockaday, Director, Management Support Staff, VS, APHIS, 4700 River Road Unit 44, Riverdale, MD 20737-1231, (301) 734-7517.

For information concerning user fee rate development, contact Mrs. Kris Caraher, User Fees Section Head, Financial Management Division, MRPBS, APHIS, 4700 River Road Unit 55, Riverdale, MD 20737-1232, (301) 734-0882.

SUPPLEMENTARY INFORMATION: On March 30, 2009, we published in the Federal Register (74 FR 13999-14006, Docket No. APHIS-2006-0144) a final rule that amended the regulations at 9 CFR part 130, which list user fees for import- and export-related services provided by the Animal and Plant Health Inspection Service for animals, animal products, birds, germ plasm, organisms, and vectors. We amended the user fees for these import- and export-related services to reflect the increased cost of providing these services.

In the rule portion of the final rule in § 130.3, paragraph (a)(1), we provided a table setting out user fees for exclusive use of APHIS animal import centers for 5 years. In the table under the heading “Monthly user fee” it reads “Beginning October 1, 2013” instead of “Beginning October 1, 2012”. This document corrects that error.

Correction

In FR Doc. E9-7022, published on March 30, 2009 (74 FR 13999-14006), make the following correction:

§ 130.3 [Corrected]

On page 14002, in § 130.3, paragraph (a)(1), in the table under the heading “Monthly user fee,” correct “Beginning October 1, 2013” to read “Beginning October 1, 2012”.

Done in Washington, DC, this 15th day of April 2009.
Kevin Shea,
Acting Administrator, Animal and Plant Health Inspection Service.

[FR Doc. E9-9104 Filed 4-20-09; 8:45 am]

BILLING CODE 3410-34-P